DEPARTMENT OF COMMERCE

National Oceanic and Atmospheric Administration

[I.D. 061606A]

Endangered and Threatened Species; Recovery Plans

AGENCY: National Marine Fisheries Service, National Oceanic and Atmospheric Administration, Commerce.

ACTION: Notice of Availability; request for comments.

SUMMARY: The National Marine Fisheries Service (NMFS) announces the availability for public review of the draft updated Recovery Plan (Plan) for the fin whale (Balaenoptera physalus). NMFS is soliciting review and comment from the public and all interested parties on the Plan, and will consider all substantive comments received during the review period before submitting the Plan for final approval.

DATES: Comments on the draft Plan must be received by close of business on September 5, 2006.

ADDRESSES: Send comments to Angela Somma, Chief, Endangered Species Division, Protected Resources Division, NMFS. Comments may be submitted by: (1) E-mail: finwhale.recoveryplan@noaa.gov, include in the subject line the following document identifier: Fin Whale Recovery Plan. E-mail comments, with or without attachments, are limited to 5 megabytes; (2) Chief, Endangered Species Division, 1315 East-West Highway, Silver Spring, MD, 20910; (3) Fax: (301) 427 2523. Interested persons may obtain the Plan for review from the above address or on-line from http://www.nmfs.noaa.gov/pr/.

FOR FURTHER INFORMATION CONTACT: Monica DeAngelis, (562-980-3232), e-mail Monica.DeAngelis@noaa.gov; or Shannon Bettridge, (301-713-2322 ext. 141), e-mail Shannon.Bettridge@noaa.gov.

SUPPLEMENTARY INFORMATION: The Endangered Species Act of 1973 (15 U.S.C. 1531 et seq.) requires that NMFS develop and implement recovery plans for the conservation and survival of threatened and endangered species under its jurisdiction, unless it is determined that such plans would not promote the conservation of the species. Accordingly, NMFS provided a contract for preparation of a draft Recovery Plan for fin and sei (Balaenoptera borealis) whales that was released for public comment and review in 1998 (63 FR 41802). The draft Recovery Plan for the fin and sei whale was never finalized. NMFS has since determined that the recovery plans for the fin and sei whales should be separated. This Plan updates the 1998 Recovery Plan's information for the fin whale and discusses the natural history, current status, and the known and potential human impacts to fin whales. Actions needed to promote the recovery of this species are identified and discussed. The Plan will be used to direct U.S. activities, and to encourage international cooperation to promote the recovery of this endangered species. NMFS' goal is to restore endangered fin whale populations to the point where they are again secure, self-sustaining members of their ecosystems, and no longer need the protections of the ESA. NMFS will consider all substantive comments and information presented during the public comment period in the course of finalizing this Plan.

Dated: June 29, 2006.
Angela Somma,
Chief, Endangered Species Division, Office of Protected Resources, National Marine Fisheries Service.

[FR Doc. E6-10558 Filed 7-5-06; 8:45 am]

BILLING CODE 3510-22-S